DEPARTMENT OF HEALTH AND HUMAN SERVICES

National Institutes of Health

Center for Scientific Review; Amended Notice of Meeting

Notice is hereby given of a change in the meeting of the Instrumentation and Systems Development Study Section, October 09, 2013, 08:00 a.m. to October 10, 2013, 04:00 p.m., Doubletree Hotel Bethesda, (Formerly Holiday Inn Select), 8120 Wisconsin Avenue, Bethesda, MD, 20814 which was published in the Federal Register on September 10, 2013, 78 FR 55267.

The meeting will be held at the National Institutes of Health, 6701 Rockledge Drive, Bethesda, MD 20892. The meeting will start on December 9, 2013 at 02:00 p.m. and end on December 10, 2013 at 06:00 p.m. The meeting is closed to the public.

Dated: October 29, 2013.
Melanie J. Gray,
Program Analyst, Office of Federal Advisory Committee Policy.

[FR Doc. 2013-26192 Filed 11-1-13; 8:45 am]

BILLING CODE 4140-01-P